DEPARTMENT OF THE TREASURY

Customs Service

Expansion of National Customs Automation Program Test of Semi-Monthly Statement Processing to Additional Ports of Entry

AGENCY: Customs Service, Treasury.

ACTION: General notice.

SUMMARY: This notice announces Customs plan to expand for current participants the testing of the semi-monthly filing and statement processing program (semi-monthly processing) to seven additional ports of entry, and invites those participants to file their statements at these additional ports. The expansion of this National Customs Automation Program test to the additional ports will enable Customs to more fully evaluate the national effect of this program for its final integration into the Automated Commercial Environment. The test is not being opened for new participants.

For the convenience of participants in this program test, this notice lists all the ports of entry—both existing and the additions—where participants may file their entry summaries and make payment of duties, taxes, and fees owed.

EFFECTIVE DATES: Current participants will be able to file semi-monthly statements at the additional ports of entry July 8, 2002; however, participants will need to notify the Entry Branch Supervisor at each additional port of entry to arrange for an exact start date and to receive any additional instructions. Evaluations of the semi-monthly processing at all the ports identified will continue to be conducted periodically.

FOR INFORMATION CONTACT: For inquiries regarding the ports of entry added to the semi-monthly processing prototype contact Debbie Scott, Entry and Drawback Management Team, (202) 927-1962.

SUPPLEMENTARY INFORMATION:

Background

Title VI of the North American Free Trade Agreement Implementation Act (the Act), Pub. L. 103-182, 107 Stat. 2057 (December 8, 1993), contains provisions pertaining to Customs Modernization (107 Stat. 2170). Subtitle B of Title VI establishes the National Customs Automation Program (NCAP)—an automated and electronic system for the processing of commercial importations. Pursuant to these provisions, Customs is developing a new commercial processing system, the Automated Commercial Environment (ACE). The ACE is being designed to support the new Trade Compliance processes. One of the main features of the ACE will be the periodic summary filing and periodic statements function, which will enable each account to pay duties, taxes, fees, and other payments owed using a periodic statement cycle. Periodic summary filing and statement functional capabilities eventually will be fully integrated into the new ACE system. Semi-monthly processing using the current Automated Commercial System (ACS) will eventually cease as the ACE system is deployed nationwide.

For programs designed to evaluate existing and planned components of the National Customs Automation Program (NCAP), § 101.9(b) of the Customs Regulations (19 CFR 101.9(b)) implements the NCAP testing procedures. As the periodic summary filing and periodic statements function (semi-monthly filing and statement processing prototype) concerns an existing component of the NCAP relating to the electronic payment of duties, fees, and taxes, the semi-monthly processing test was established pursuant to that regulation. See, the Federal Register Notice published March 30, 1998 (63 FR 15259) for a fuller explanation of this test.

When initially established in 1998, the semi-monthly filing and statement processing prototype (semi-monthly processing) was implemented at only 14 ports of entry and it was stated in the Federal Register Notice that the testing of this prototype would be implemented over an 18-month period and would end when the periodic payment/statement feature of ACE is available. To date, the ACE is not fully implemented, and the testing of the semi-monthly processing prototype is incomplete. The reasons for these developments are many: the continuing reorganization of Customs, budgeting difficulties, the occurrence of other national events, which has occasioned a shifting of Customs priorities, etc. Regarding the locations where semi-monthly processing are currently authorized to be filed, evaluations of the prototype conducted to date with participants show a concern that the prototype testing should be expanded to additional ports, so that the national effect of this program can be fully gauged. Accordingly, Customs is announcing in this document that seven new ports of entry will be authorized so that current participants may file their entry summaries and make payment of duties, taxes, and fees owed. The seven new ports of entry are located at: Dallas, Texas; Houston, Texas; Indianapolis, Indiana; Jacksonville, Florida; Memphis, Tennessee; Norfolk, Virginia; and Savannah, Georgia.

Current participants will be able to file semi-monthly statements at any of these additional ports 30 days after this Notice is published in the Federal Register. However, participants will need to notify the Entry Branch Supervisor at each additional port of entry to arrange for an exact start date and to receive any additional instructions. It is noted that the test is not being opened for new participants. Evaluations of the semi-monthly processing at all the ports identified will continue to be conducted periodically.

For the convenience of participants in this program test, this notice summarily lists, alphabetically by State, all the ports of entry—both existing and the additions—eligible for the semi-monthly processing prototype:

In California, the ports at Los Angeles-Long Beach and San Francisco-Oakland;

In Florida, the ports at Jacksonville and Miami;

In Georgia, the ports at Atlanta and Savannah;

In Illinois, the port at Chicago;

In Indiana, the port at Indianapolis;

In Michigan, the ports at Detroit and Port Huron;

In New York, the ports at Buffalo-Niagara Falls and New York;

In Ohio, the port at Cleveland;

In South Carolina, the port at Charleston;

In Tennessee, the port at Memphis;

In Texas, the ports at Dallas-Fort Worth, El Paso, Houston-Galveston, and Laredo;

In Virginia, the port at Norfolk-Newport News; and

In Washington, the port at Puget Sound.

Customs requests that participants be active in the evaluation of the semi-monthly test.

Dated: May 31, 2002.
Bonni G. Tischler,
Assistant Commissioner, Office of Field Operations.

[FR Doc. 02-14220 Filed 6-5-02; 8:45 am]

BILLING CODE 4820-02-P